DEPARTMENT OF COMMERCE

International Trade Administration

Executive-Led U.S.-Turkey Healthcare Trade Mission to Ankara, Istanbul, and Izmir

AGENCY: International Trade Administration, Department of Commerce.

ACTION: Amendment.

SUMMARY: The United States Department of Commerce, International Trade Administration is amending the Notice published at 78 FR 18318 (March 26, 2013), regarding the Executive-Led U.S.-Turkey Healthcare Trade Mission to Ankara, Istanbul, and Izmir to extend the date of the application deadline to February 6, 2014, and to amend the selection criteria for the applications received from midnight December 16, 2013 through close-of-business February 6, 2014.

SUPPLEMENTARY INFORMATION: Recruitment for this Mission began in July 2013. Due to the government shutdown, it has been determined that additional time is needed to allow for additional recruitment and marketing in support of the mission. Applications will now be accepted through close-of-business February 6, 2014 (and after that date if space remains and scheduling constraints permit).

The applications received prior to the original deadline of December 16, 2013, will be evaluated in accordance with the Notice published at 78 FR 18318 (March 26, 2013) regarding the Amendment to the Executive-Led U.S.-Turkey Healthcare Trade Mission to Ankara, Istanbul, and Izmir. The applicants selected will be notified as soon as possible.

Amendments

Additional applications will be accepted through February 6, 2014. All applications received from midnight December 16, 2013, through close-of-business February 6, 2014, will form a single selection pool and will be evaluated in a single, comparative selection process. In addition to the requirements, conditions and criteria set out above, the following criteria will be taken into account in the evaluation of these additional applications:

• The overall distribution of participants, considering those already selected for participation, representing a diversity of key sub-sectors, with a special emphasis on the Medical Devices, Healthcare IT and Mobile-Health sub-sectors.

Applications received after the February 6, 2014 cob deadline will be considered only if space and scheduling constraints permit.

Contact Information

U.S. Commercial Service Turkey: Ebru Olcay, Healthcare Specialist, Ebru.olcay@trade.gov.

Boston U.S. Export Assistance Center: Michelle Ouellette, Specialist, Michelle.ouellette@trade.gov.

Elnora Moye,
Trade Program Assistant.

[FR Doc. 2013-30240 Filed 12-18-13; 8:45 am]

BILLING CODE 3510-FP-P